EXPORT-IMPORT BANK

Notice of Joint Open Meeting of the Advisory Committee of the Export-Import Bank of the United States (EXIM) and Sub-Saharan Africa Advisory Committee of the Export-Import Bank of the United States (EXIM)

Time and Date: Tuesday, April 14, 2020 from 1:30-3:00 p.m. EDT.

Place: The meeting will be held via teleconference and audio-only webinar.

Agenda: Discussion of EXIM's COVID-19 (coronavirus) temporary relief measures; EXIM policies and programs and comments for inclusion in EXIM's Report to the U.S. Congress on Global Export Credit Competition; and policies and programs designed to support the expansion of financing support for U.S. manufactured goods and services in sub-Saharan Africa.

Public Participation: The meeting will be open to public participation and time will be allotted for questions or comments submitted online during the webinar. Members of the public may also file written statements before or after the meeting to brittany.walker@exim.gov. If you plan to participate in the meeting, you may email brittany.walker@exim.gov no later than 12:00 p.m. EDT on Monday, April 13, 2020 to be placed on the attendee list and receive instructions.

Further Information: For further information, contact the Office of External Engagement at external@exim.gov.

Joyce Brotemarkle Stone,
Assistant Corporate Secretary.

[FR Doc. 2020-07420 Filed 4-8-20; 8:45 am]

BILLING CODE 6690-01-P